DEPARTMENT OF COMMERCE

National Oceanic and Atmospheric Administration

[I.D. 062700C]

Marine Mammals; File No. 782-1438 and P77-4#2

AGENCY: National Marine Fisheries Service (NMFS), National Oceanic and Atmospheric Administration (NOAA), Commerce.

ACTION: Issuance of permit amendments.

SUMMARY: Notice is hereby given that the National Marine Mammal Laboratory, National Marine Fisheries Service, NOAA, 7600 Sand Point Way NE, Seattle, Washington 98115-0070 has been issued an amendment to scientific research Permit No. 782-1438; and that the Northeast Fisheries Science Center, National Marine Fisheries Service, NOAA, 166 Water Street, Woods Hole, MA 02546-1026 has been issued an amendment to scientific research Permit No. 917 (File No. P77-4#2).

ADDRESSES: The amendments and related documents are available for review upon written request or by appointment in the following office(s):

File Nos. 782-1438 and P77-4#2: Permits and Documentation Division, Office of Protected Resources, NMFS, 1315 East-West Highway, Room 13705, Silver Spring, MD 20910 (301/713-2289);

File No. 782-1438: Southwest Region, National Marine Fisheries Service, NOAA, 501 West Ocean Boulevard, Suite 4200, Long Beach, CA 90802-4213 (562/980-4001);

File No. 782-1438: Alaska Region, National Marine Fisheries Service, NOAA, P.O. Box 21668, Juneau, AK 99802 (907/586-7235);

File No. P77-4#2 (Permit No. 917): Northeast Region, NMFS, One Blackburn Drive, Gloucester, MA 01930, (978/281-9250).

FOR FURTHER INFORMATION CONTACT: Simona Roberts or Ruth Johnson, 301/713-2289.

SUPPLEMENTARY INFORMATION: On May 4, 2000, notice was published in the Federal Register (65 FR 25912) that an amendment of Permit No. 782-1438, issued on May 8, 1998 (63 FR 27265) and of Permit No. 917 (File No. P77-4#2), issued on May 11, 1994 (59 FR 25892), as amended on April 16, 1999 (64 FR 6326), had been requested by the above-named institutions. The requested amendments have been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Permit No. 782-1438 authorizes the National Marine Mammal Laboratory to take various large and small cetacean species through photographic aerial surveys (Project I), biopsy sampling and photo-id (Project II), small cetacean species and pinnipeds through vessel surveys (Project III) and gray whales through biopsy sampling, tagging, photo-id and harassment (Project IV).

The amendment now authorizes the National Marine Mammal Laboratory to satellite-tag, flipper tag, VHF radio/time depth recorder(TDR) suction cup-tag and biopsy sample beluga whales (Delphinapterus leucas) in Alaskan waters.

Permit No. 917 (File No. P77-4#2) authorizes the Northeast Fisheries Science Center (NMFS) to conduct three projects: 1) aerial and boat surveys, biopsy sampling and photo-identification of various cetacean species during stock assessment research; 2) capture, sample, tag and release pinnipeds during pinniped stock assessment research; and 3) collection of samples from animals of the Orders Cetacea and Pinnipedia [except walrus] for deposit into a scientific collection for research.

The amendment now authorizes the Northeast Fisheries Science Center to extend the permit to December 31, 2000.

Issuance of this amendment, as required by the ESA was based on a finding that such permit (1) was applied for in good faith, (2) will not operate to the disadvantage of the endangered species which is the subject of this permit, and (3) is consistent with the purposes and policies set forth in section 2 of the ESA.

Dated: June 28, 2000.
Ann Terbush,
Chief, Permits Division, Office of Protected Resources, National Marine Fisheries Service.

[FR Doc. 00-16938 Filed 7-3-00; 8:45 am]

BILLING CODE 3510-22-F